DEPARTMENT OF THE TREASURY

United States Mint

Pricing for Mayflower 400th Anniversary Products

AGENCY: United States Mint, Department of the Treasury.

ACTION: Notice.

SUMMARY: The United States Mint is setting prices for the Mayflower 400th Anniversary Products.

20XA | 400th Anniversary of the Mayflower Voyage Two-Coin Gold Proof Set | Per grid.
20XB | 400th Anniversary of the Mayflower Voyage Silver Proof Coin and Medal Set | $150.00.
20XC | Mayflower 400th Anniversary Gold Reverse Proof Coin | Per grid.
20XD | Mayflower 400th Anniversary Silver Reverse Proof Medal | $70.00.

FOR FURTHER INFORMATION CONTACT: Ann Bailey, Sales and Marketing; United States Mint; 801 9th Street NW; Washington, DC 20220; or call 202-354-7500.

Authority: 31 U.S.C. 5112(i)(4)(C)

Eric Anderson,
Executive Secretary, United States Mint.

[FR Doc. 2020-23118 Filed 10-19-20; 8:45 am]

BILLING CODE P